COMMISSION ON CIVIL RIGHTS

Agenda and Notice of Public Meeting of the New Jersey Advisory Committee

Notice is hereby given, pursuant to the provisions of the rules and regulations of the U.S. Commission on Civil Rights and the Federal Advisory Committee Act, that a planning meeting of the New Jersey Advisory Committee of the U.S. Commission on Civil Rights will convene at 1 p.m. and adjourn at 5 p.m. on Friday, September 5, 2008, at the Legislative Annex of the State House, 125 West State Street, Room 1, Trenton, New Jersey 08625-0099.

The purpose of this meeting is to receive and discuss subcommittee presentations that will be made in support of a proposed civil rights project.

Members of the public are entitled to submit written comments; the comments must be received in the Eastern Regional Office by October 3, 2008. The address is 624 Ninth Street, NW., Washington, DC 20425. Persons wishing to e-mail their comments, or who desire additional information should contact Alfreda Greene, Secretary, 202-376-7533, TTY 202-376-8116 or by e-mail: agreene@usccr.gov.

Hearing impaired persons who will attend the meeting and require the service of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and the Federal Advisory Committee Act.

The meeting will be conducted pursuant to the provisions of the rules and regulations of the Commission and FACA.

Dated in Washington, DC, August 6, 2008.
Christopher Byrnes,
Chief, Regional Programs Coordination Unit.

[FR Doc. E8-18516 Filed 8-8-08; 8:45 am]

BILLING CODE 6335-01-P